EXPORT-IMPORT BANK

Economic Impact Policy

This notice is to inform the public that the Export-Import Bank has received an application to guarantee up to $198 million of equipment and other goods and services on the behalf of U.S. exporters to a buyer in Egypt. The U.S. exports will enable the Egyptian company to produce anhydrous ammonia from natural gas. The Egyptian company will have a production capacity of 1,850 metric tons of ammonia per day. It is envisioned this new production will be consumed primarily in Jordan and India. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 03-15345 Filed 6-17-03; 8:45 am]

BILLING CODE 6690-01-M